DEPARTMENT OF JUSTICE

[OMB Number: 1121-NEW]

Agency Information Collection Activities; Proposed eCollection eComments Requested; Generic Collection

AGENCY: Office of Justice Programs, Department of Justice.

ACTION: 60-day notice.

SUMMARY: The Department of Justice, Office of Justice Programs, is submitting the following OJP Satisfaction surveys information collection with questionnaires requesting the Office of Management and Budget (OMB) to review and approve in accordance with the Paperwork Reduction Act of 1995.

DATES: The Department of Justice encourages public comment and will accept input until July 15, 2024.

FOR FURTHER INFORMATION CONTACT: If you have additional comments especially on the estimated public burden or associated response time, suggestions, or need a copy of the proposed information collection instrument with instructions or additional information, please contact Rosa Bancarotta, Customer Success Manager at Verint/ForeSee, rosa.bancarotta@verint.com 617-755-8361

SUPPLEMENTARY INFORMATION: Written comments and suggestions from the public and affected agencies concerning the proposed collection of information are encouraged. Your comments should address one or more of the following four points:

—Evaluate whether the proposed collection of information is necessary for the proper performance of the functions of the Office of Justice Programs, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection:

1. Type of Information Collection: New Collection.

The purpose of the OJP Generic satisfaction survey is to solicit the opinions from respondents who have visited OJP website pages.

2. The Title of the Form/Collection: OJP Generic website Feedback satisfaction surveys.

3. The agency form number: There is no form number associated with this information collection.

4. Affected public who will be asked or required to respond, as well as a brief abstract: The respondents to the survey will be public visitors of the websites.

5. An estimate of the total number of respondents and the amount of time estimated for an average respondent to respond:

Total estimated number of respondents: 8,389 with an estimated average participation time of 88.2 minutes.

Name:__OJP Satisfaction Survey Consisting of the following:

Module: List all surveys here | Avg. yearly hours spent per respondent | FY 2021 number of respondents | Hourly burden
BJA Desktop | 2.5 min | 235 | 9.8
DOJ OVC Desktop Browse | 3.5 min | 300 | 17.5
OJJDP Desktop | 3.3 min | 175 | 9.62
SMART Desktop | 2.5 min | 50 | 2.08
DOJ OVC Email Newsletter | 3.0 min | 150 | 7.5
OJJDP Email Newsletter | 3.3 min | 149 | 8.19
SMART Mobile | 2.5 min | 25 | 1.04
BJS Mobile Browse | 3.5 min | 40 | 2.3
DOJ OVC Mobile Browse | 3.5 min | 145 | 8.5
OJJDP Mobile | 3.5 min | 40 | 2.33
BJS V2 (Desktop) | 3.5 min | 300 | 17.5
NIJ Desktop v3 | 3.5 min | 565 | 32.96
OJP Desktop | 3.3 min | 760 | 41.80
Crime Solutions Desktop Browse | 3.5 min | 110 | 6.4
NIJ Mobile Browse | 3.5 min | 200 | 11.67
OJP Mobile | 3.3 min | 230 | 12.65
BJA Mobile | 2.5 min | 110 | 4.5
OJP Crime Solution Email | 3.5 min | 250 | 14.58
OJP BJS.ojp.gov Rate This Page Feedback Survey | 1.5 min | 200 | 5.0
OJP NamUs Rate This Page Feedback Survey | 1.5 min | 240 | 6.0
OJP OJP Rate This Page | 1.5 min | 1,190 | 29.75
OJP SMART Rate This Page | 1.5 min | 50 | 1.25
OJP Crime Solutions Rate This Page Feedback | 1.5 min | 90 | 2.25
OJP NationalGangCenter Rate This Page | 1.5 min | 40 | 1.0
OJP OJPNet Rate This Page | 1.5 min | 10 | 0.25
OJP VehicleHistory BJA Rate This Page | 1.5 min | 480 | 12.0
OJP JGII Team Site (Rate This Page) | 1.5 min | 10 | 0.25
OJP NIJ Rate This Page | 1.5 min | 740 | 18.5
OJP Operational Lady Justice Rate This Page | 1.5 min | 25 | 0.62
OJP BJA Website Feedback Survey | 1.5 min | 350 | 8.75
OJP JusticeGrants Rate This Page | 1.5 min | 150 | 3.75
OJP OJJDP Rate This Page | 1.5 min | 170 | 4.25
OJP OVC Rate This Page | 1.5 min | 120 | 3.0
OJP NSOPW Rate This Page | 1.5 min | 90 | 2.25
Verint OJP Just Grants | 2.5 min | 1,500 | 62.5
NCJRC Rate this page | 2 min | 50 | 1.6
Ashanti Rate this page | 2 min | 50 | 1.6
Totals | 88.2 | 8,389 | 387.7

6. An estimate of the total public burden (in hours) associated with the collection: The estimated total burden hours associated with this collection is 387.8 hours.

7. An estimate of the total annual cost burden associated with the collection, if applicable: $0.

If additional information is required contact: If additional information is required contact: Darwin Arceo, Department Clearance Officer, United States Department of Justice, Justice Management Division, Policy and Planning Staff, Two Constitution Square, 145 N Street NE, 4W-218, Washington, DC.

Dated: May 9, 2024.
Darwin Arceo,
Department Clearance Officer for PRA, U.S. Department of Justice.

[FR Doc. 2024-10577 Filed 5-14-24; 8:45 am]

BILLING CODE 4410-18-P